DEPARTMENT OF THE INTERIOR

National Park Service

[NPS-WASO-NAGPRA-NPS0032979; PPWOCRADN0-PCU00RP14.R50000]

Notice of Inventory Completion: U.S. Department of the Interior, Bureau of Land Management, Portland, OR

AGENCY: National Park Service, Interior.

ACTION: Notice.

SUMMARY: The U.S. Department of the Interior, Bureau of Land Management (BLM) has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the BLM. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the BLM at the address in this notice by December 8, 2021.

FOR FURTHER INFORMATION CONTACT: Dave Johnson, Bureau of Land Management, 1220 SW 3rd Avenue, Portland, OR 97204, telephone (503) 808-6596, email cdj@blm.gov.

SUPPLEMENTARY INFORMATION: Notice is here given in accordance with the Native American Graves Protection and Repatriation Act (NAGPRA), 25 U.S.C. 3003, of the completion of an inventory of human remains under the control of the U.S. Department of the Interior, Bureau of Land Management, Portland, OR. The human remains were removed from an undisclosed location in Deschutes County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by BLM professional staff in consultation with representatives of the Confederated Tribes of the Warm Springs Reservation of Oregon.

History and Description of the Remains

In 1988, human remains representing, at minimum, one individual were removed from an undisclosed location overlooking the Deschutes River in Deschutes County, OR. An unnamed family discovered the human remains and turned them over to the BLM without disclosing the exact location of the site from which the human remains were removed. No known individual was identified. No associated funerary objects are present.

According to the account of recovery of these human remains, the skeletal elements were discovered in a rockshelter along the bank of the Deschutes River. Rocks had fallen from the ceiling of the shelter and covered most of the human remains. Analyses by the Bureau of Land Management archeologist and authorities with the Deschutes County Sheriff Office determined that the skeletal remains were Native American and pre-European contact in date. The general location of the discovery is well within the ceded ancestral lands of the Confederated Tribes of the Warm Springs Reservation of Oregon.

Determinations Made by the U.S. Department of the Interior, Bureau of Land Management

Officials of the U.S. Department of the Interior, Bureau of Land Management have determined that:

• Pursuant to 25 U.S.C. 3001(9), the human remains described in this notice represent the physical remains of one individual of Native American ancestry.

• Pursuant to 25 U.S.C. 3001(2), there is a relationship of shared group identity that can be reasonably traced between the Native American human remains and the Confederated Tribes of the Warm Springs Reservation of Oregon.

Additional Requestors and Disposition

Lineal descendants or representatives of any Indian Tribe or Native Hawaiian organization not identified in this notice that wish to request transfer of control of these human remains should submit a written request with information in support of the request to Dave Johnson, Bureau of Land Management, 1220 SW 3rd Avenue, Portland, OR 97204, telephone (503) 808-6596, email cdj@blm.gov, by December 8, 2021. After that date, if no additional requestors have come forward, transfer of control of the human remains to the Confederated Tribes of the Warm Springs Reservation of Oregon may proceed.

The U.S. Department of the Interior, Bureau of Land Management is responsible for notifying the Confederated Tribes of the Warm Springs Reservation of Oregon that this notice has been published.

Dated: October 29, 2021.
Melanie O'Brien,
Manager, National NAGPRA Program.

[FR Doc. 2021-24311 Filed 11-5-21; 8:45 am]

BILLING CODE 4312-52-P